DEPARTMENT OF HEALTH AND HUMAN SERVICES

National Institutes of Health

Submission for OMB Review; 30-Day Comment Request

The Social Security Administration (SSA)—National Institutes of Health (NIH) Collaboration to Improve the Disability Determination Process: Calibration II, Predictive Validity Testing & Validation of Item Response Theory-Computer Adaptive Testing Tools (IRT-CAT) (CC)

SUMMARY: Under the provisions of Section 3507(a)(1)(D) of the Paperwork Reduction Act of 1995, the National Institutes of Health (NIH) has submitted to the Office of Management and Budget (OMB) a request for review and approval of the information collection listed below. This proposed information collection was previously published in the Federal Register on April 22, 2014, page 22507 and allowed 60-days for public comment. No public comments were received. The purpose of this notice is to allow an additional 30 days for public comment. The Clinical Center, National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30 days of the date of this publication.

FOR FURTHER INFORMATION CONTACT: To obtain a copy of the data collection plans and instruments or request more information on the proposed project contact: Daniel Hobbs, Management Analyst, Epidemiology & Biostatistics Section, Rehabilitation Medicine Department, Clinical Center, NIH, 6100 Executive Blvd. Suite 3C01, Bethesda, MD 20892, or call non-toll-free number (301) 496-3817 or Email your request, including your address to: daniel.hobbs@nih.gov. Formal requests for additional plans and instruments must be requested in writing.

Proposed Collection: The SSA-NIH Collaboration to Improve the Disability Determination Process: Calibration II, Predictive Validity Testing & Validation of IRT-CAT Tools, 0925- New, Clinical Center (CC), National Institutes of Health (NIH).

Need and Use of Information Collection: The Social Security Administration (SSA) entered into an interagency agreement (IAA) with the National Institutes of Health (NIH), Clinical Center (CC), Rehabilitation Medicine Department (RMD), to explore innovative methods of functional assessment to improve SSA's disability determination process. As part of its study, NIH recommended item response theory (IRT) coupled with computer adaptive testing (CAT) as a promising approach to efficiently and consistently capture claimant functional information to assist SSA adjudicators. IRT is a framework for the design, analysis, and scoring of tests, questionnaires, and similar instruments measuring abilities, aptitudes, and other variables. It is often the preferred method for the development of tests such as the Graduate Record Examination (GRE) and the Graduate Management Admission Test (GMAT).

Development of these instruments is an iterative process, involving sequential phases of study in the areas of item bank development, calibration, validation, reliability testing and replenishment of the item banks. CAT instruments for the Applied Cognition and Activities of Daily Living domains will undergo calibration; predictive validity will be examined; concurrent validity will be tested against legacy functional assessment instruments; reliability and sensitivity will be examined; and, the item banks will undergo replenishment to refine the scope of the questions.

OMB approval is requested for 3 years. There are no costs to respondents other than their time. The total estimated annualized burden hours are 12,835.

Estimated Annualized Burden Hours
Type of respondents | Number of respondents | Frequency of response | Average time per response (in hours) | Annual hour burden
Calibration Phase
Survey 1—Screener Call (Not Interested) | 12,200 | 1 | 3/60 | 610
Survey 1—Screener Call (Participate/Eligible) | 7,800 | 1 | 15/60 | 1,950
Survey 1—Consent Form | 3,500 | 1 | 15/60 | 875
SSA Claimant Survey 1 | 3,500 | 1 | 45/60 | 2,625
Survey 2—Screener Call (Not Interested) | 500 | 1 | 3/60 | 25
Survey 2—Screener Call (Participate Eligible) | 3,000 | 1 | 15/60 | 750
Survey 2—Consent Form | 3,000 | 1 | 15/60 | 750
SSA Claimant Survey 2 | 3,000 | 1 | 45/60 | 2,250
Normative Population Survey 1 | 2,000 | 1 | 45/60 | 1,500
Normative Population Survey 2 | 2,000 | 1 | 45/60 | 1,500

Dated: July 31, 2014.
David Henderson,
Deputy Director, Clinical Center, NIH.

[FR Doc. 2014-18777 Filed 8-7-14; 8:45 am]

BILLING CODE 4140-01-P